FEDERAL ACCOUNTING STANDARDS ADVISORY BOARD

Notice of Request for Candidates To Serve as Non-Federal Members of the Federal Accounting Standards Advisory Board

AGENCY: Federal Accounting Standards Advisory Board.

ACTION: Notice.

SUMMARY: Notice is hereby given that the Federal Accounting Standards Advisory Board (FASAB) is currently seeking candidates (candidates must not currently be Federal employees) to serve as non-Federal members of FASAB. One new member will be selected to serve a five-year term beginning November 1, 2024. Two new members will be selected to serve five-year terms beginning January 1, 2026, after the terms of two current non-federal Board members end.

DATES: Please submit your resume by May 17, 2024, to be considered for the position starting on November 1, 2024. Please submit your resume by October 31, 2024, to be considered for the positions starting on January 1, 2026.

ADDRESSES: Responses may be sent to fasab@fasab.gov or Ms. Monica R. Valentine, Executive Director, 441 G Street NW, Suite 1155, Washington, DC 20548.

FOR FURTHER INFORMATION CONTACT: Ms. Monica R. Valentine, Executive Director, 441 G Street NW, Suite 1155, Washington, DC 20548, or call (202) 512-7350.

SUPPLEMENTARY INFORMATION: FASAB is the body designated to establish generally accepted accounting principles for Federal Government entities. Generally, non-Federal Board members are selected from the general financial community, the accounting and auditing community, or the academic community.

The Board generally meets for two days every other month in Washington, DC, except for its December and February meetings, which are virtual. Members are compensated for 24 days per year based on current Federal executive salaries. Travel expenses are reimbursed in accordance with Federal travel regulations.

Authority: 31 U.S.C. 3511(d); Federal Advisory Committee Act, 5 U.S.C. 1001-1014.

Dated: April 4, 2024.
Monica R. Valentine,
Executive Director.

[FR Doc. 2024-07580 Filed 4-9-24; 8:45 am]

BILLING CODE 1610-02-P